DEPARTMENT OF TRANSPORTATION

Federal Railroad Administration

[Docket Number FRA-2020-0076]

Petition for Waiver of Compliance

Under part 211 of title 49 Code of Federal Regulations (CFR), this document provides the public notice that on September 18, 2020, BNSF Railway Company (BNSF) petitioned the Federal Railroad Administration (FRA) for a waiver of compliance from certain provisions of the Federal railroad safety regulations contained at 49 CFR part 213, Track Safety Standards. FRA assigned the petition Docket Number FRA-2020-0076.

Specifically, BNSF requests a waiver of compliance from 49 CFR 213.113, Defective rails, to permit an alternate means of affecting the remedial actions set forth in remedial action code C (49 CFR 213.113(c)). BNSF proposes that following the application of joint bars in accordance with remedial action code C, the track segment be operated as follows:

• Trains may continue to run at the maximum allowable speed for the track class until a maximum of 15 million gross tons (MGT) have traversed the track segment;

• after 15 MGT have traversed the segment, operating speed will be reduced to 50 miles per hour (mph) thereafter until the defective rail is replaced; and

• if the rail defect progresses to a 100% fracture, operating speed will be reduced to 10 mph thereafter until the defective rail is replaced.

BNSF states that the relief will promote railroad safety by allowing rail inspection vehicles to maintain ideal inspection frequencies, which will ensure that BNSF track will be inspected more frequently and defects remedied and repaired more quickly.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by November 13, 2020 will be considered by FRA before final action is taken. Comments received after that date will be considered if practicable. Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-21466 Filed 9-28-20; 8:45 am]

BILLING CODE 4910-06-P